DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and have been removed from the list of Specially Designated Nationals and Blocked Persons. Additionally, OFAC is publishing an update to the identifying information of a person currently included in the list of Specially Designated Nationals and Blocked Persons.

DATES: See SUPPLEMENTARY INFORMATION section for effective date.

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On August 25, 2020, OFAC determined that the property and interests in property subject to U.S. jurisdiction of the following persons are unblocked and they have been removed from the SDN List under the relevant sanctions authorities listed below.

Individuals

1. MEJIA ALZATE, Jose Alejandro; DOB 30 May 1984; POB Medellin, Colombia; citizen Colombia; Cedula No. 8126905 (Colombia) (individual) [SDNTK] (Linked To: CANTERAS COPACABANA S.A.; Linked To: PROMOTORA TURISTICA SOL PLAZA S.A.; Linked To: ALMEQUIP S.A.S.).

2. AVINA BRIBIESCA, Jose, Avenida Santa Margarita numero 4950-86, Zapopan, Jalisco, Mexico; Loma del Infante Casa 25, Col. Lomas de Atemajac, Zapopan, Jalisco CP 45178, Mexico; DOB 23 Apr 1977; POB Distrito Federal, Mexico; R.F.C. AIBJ770423NG1 (Mexico); C.U.R.P. AIBJ770423HDFVRS07 (Mexico) (individual) [SDNTK] (Linked To: BONA-HABITAT, S.A. DE C.V.).

3. GONZALEZ HERNANDEZ, Ignacio, Paseo San Arturo numero 2051, Fraccionamiento Valle Real, Zapopan, Jalisco, Mexico; Morelos No. 2223, Arcos Vallarta, Guadalajara, Jalisco 44130, Mexico; DOB 16 Nov 1974; POB Guadalajara, Jalisco, Mexico; Passport 3116072917339 (Mexico); R.F.C. GOHI-741116 (Mexico); C.U.R.P. GOHI741116HJCNRG02 (Mexico) (individual) [SDNTK] (Linked To: BONA-HABITAT, S.A. DE C.V.; Linked To: URBANIZADORA NUEVA ITALIA, S.A. DE C.V.).

4. GONZALEZ LINARES, Janette Iliana, Primavera 3172, Col. Loma Bonita, Guadalajara, Jalisco CP 44980, Mexico; DOB 28 Aug 1985; POB Zapopan, Jalisco, Mexico; C.U.R.P. GOLJ850828MJCNNN02 (Mexico) (individual) [SDNTK] (Linked To: BONA-HABITAT, S.A. DE C.V.).

5. FLORES APODACA, Angelina; DOB 21 Jul 1958; Passport 040068785 (Mexico) (individual) [SDNTK].

6. BEDOYA ESPINOSA, Humberto Antonio; DOB 14 Jan 1949; POB Jerico, Antioquia, Colombia; citizen Colombia; Cedula No. 8293921 (Colombia) (individual) [SDNTK] (Linked To: PROMOTORA TURISTICA SOL PLAZA S.A.; Linked To: CANTERAS COPACABANA S.A.).

7. MEJIA ALZATE, Maria Leivy; DOB 28 Jul 1981; POB Medellin, Colombia; citizen Colombia; Cedula No. 43276113 (Colombia) (individual) [SDNTK] (Linked To: CANTERAS COPACABANA S.A.; Linked To: PROMOTORA TURISTICA SOL PLAZA S.A.; Linked To: ASESORIA Y ASISTENCIA AGROPECUARIA Y AMBIENTAL A4).

8. ROSENTHAL OLIVA, Jaime Rolando, Barrio Rio Piedras, Calle 26, Ave 45, San Pedro Sula, Honduras; DOB 05 May 1936; POB San Pedro Sula, Cortes, Honduras; Passport E337842 (Honduras); National ID No. 0501193600600 (Honduras); RTN 05011936006000 (Honduras) (individual) [SDNTK] (Linked To: INVERSIONES CONTINENTAL (PANAMA), S.A. DE C.V.; Linked To: INVERSIONES CONTINENTAL, S.A. DE C.V.; Linked To: EMPACADORA CONTINENTAL, S.A. DE C.V.; Linked To: BANCO CONTINENTAL, S.A.; Linked To: INVERCIONES CONTINENTAL, U.S.A., CORP).

Entities

1. BONA-HABITAT, S.A. DE C.V. (a.k.a. “BONA HABITAT”), Morelos 2223, Col. Arcos Vallarta, Guadalajara, Jalisco, Mexico; Folio Mercantil No. 44338-1 (Mexico) [SDNTK].

2. ASESORIA Y ASISTENCIA AGROPECUARIA Y AMBIENTAL A4, Manizales, Caldas, Colombia; Matricula Mercantil No 125828 (Manizales) [SDNTK].

3. BANCO CONTINENTAL, S.A., Centro Comercial Nova Prisa 390, San Pedro Sula, Cortes, Honduras; 9-10 Avenida NO, Boulevard Morazan, San Pedro Sula, Cortes, Honduras; SWIFT/BIC CSPSHNTE; RTN 08019003077544 (Honduras); All branches in Honduras [SDNTK].

4. EMPACADORA CONTINENTAL, S.A. DE C.V. (a.k.a. ALIMENTOS CONTINENTAL, S.A. DE C.V.), Carretera Campo 2, San Pedro Sula, Cortes, Honduras; P.O. Box 605, San Pedro Sula, Cortes, Honduras; Zona Industrial Continental, La Lima, San Pedro Sula, Cortes, Honduras; Lomas del Toncontin, Carretera Hacia Villeda Morales a 150 metros de Tipicos La Costa, Tegucigalpa, Honduras; National ID No. 08011900307609 (Honduras); RTN 080119003076090 (Honduras) [SDNTK].

5. INVERCIONES CONTINENTAL, U.S.A., CORP, Plantation, FL, United States; Apartado 390, San Pedro Sula, Cortes, Honduras; P.O. Box 390, San Pedro Sula, Cortes, Honduras; Tax ID No. 650018270 (United States) [SDNTK].

6. INVERSIONES CONTINENTAL (PANAMA), S.A. DE C.V. (a.k.a. HOLDING INVERSIONES CONTINENTAL (PANAMA), S.A.; a.k.a. “GRUPO CONTINENTAL”), Calle 50 con Aquilino de la Guardia, Plaza Blanco General, Piso 20, Panama, Panama; RUC #25882543162 (Panama) [SDNTK].

7. INVERSIONES CONTINENTAL, S.A. DE C.V. (a.k.a. GRUPO FINANCIERO CONTINENTAL; a.k.a. “GRUPO FINANCIERO”), Entre la 9 y 10 Avenida, 1ra Calle, Boulevard Morazan, CC Nova, San Pedro Sula, Honduras; National ID No. 0501999514659 (Honduras); RTN 05019995146590 (Honduras) [SDNTK].

Additionally, on August 25, 2020, OFAC updated the SDN List for the following person, whose property and interests in property continue to be blocked.

Individual

From:

ROSENTHAL HIDALGO, Yani Benjamin, 5 Calle, 24 Avenida S.O. #226, San Pedro Sula, Honduras; DOB 14 Jul 1965; POB Honduras; Passport B255530 (Honduras); National ID No. 0501196506001 (Honduras); RTN 05011965060013 (Honduras) (individual) [SDNTK] (Linked To: INVERSIONES CONTINENTAL (PANAMA), S.A. DE C.V.; Linked To: INVERSIONES CONTINENTAL, S.A. DE C.V.; Linked To: EMPACADORA CONTINENTAL, S.A. DE C.V.; Linked To: BANCO CONTINENTAL, S.A.).

To:

ROSENTHAL HIDALGO, Yani Benjamin, 5 Calle, 24 Avenida S.O. #226, San Pedro Sula, Honduras; DOB 14 Jul 1965; POB Honduras; Passport B255530 (Honduras); National ID No. 0501196506001 (Honduras); RTN 05011965060013 (Honduras) (individual) [SDNTK].

Dated: August 25, 2020.
Gregory T. Gatjanis,
Associate Director, Office of Global Targeting, Office of Foreign Assets Control.

[FR Doc. 2020-19025 Filed 8-27-20; 8:45 am]

BILLING CODE 4810-AL-P